DEPARTMENT OF TRANSPORTATION

Pipeline and Hazardous Materials Safety Administration

[Docket No. PHMSA-2011-0178]

Pipeline Safety: Information Collection Activities

AGENCY: Pipeline and Hazardous Materials Safety Administration (PHMSA), DOT.

ACTION: Notice and request for comments.

SUMMARY: In accordance with the Paperwork Reduction Act of 1995, PHMSA invites comments on certain information collections pertaining to pipeline safety for which PHMSA intends to request renewal from the Office of Management and Budget (OMB).

DATES: Interested persons are invited to submit comments on or before September 30, 2011.

ADDRESSES: Comments may be submitted in the following ways:

E-Gov Web Site: http://www.regulations.gov. This site allows the public to enter comments on any Federal Register notice issued by any agency.

Fax: 1-202-493-2251.

Mail: Docket Management Facility; U.S. Department of Transportation, 1200 New Jersey Avenue, SE., West Building, Room W12-140, Washington, DC 20590-0001.

Hand Delivery: Room W12-140 on the ground level of the West Building, 1200 New Jersey Avenue, SE., Washington, DC, between 9 a.m. and 5 p.m., Monday through Friday, except Federal holidays.

Instructions: Identify the docket number, PHMSA-2011-0178, at the beginning of your comments. Note that all comments received will be posted without change to http://www.regulations.gov, including any personal information provided. You should know that anyone is able to search the electronic form of all comments received into any of our dockets by the name of the individual submitting the comment (or signing the comment, if submitted on behalf of an association, business, labor union, etc.). Therefore, you may want to review DOT's complete Privacy Act Statement in the Federal Register published on April 11, 2000 (65 FR 19477) or visit http://www.regulations.gov before submitting any such comments.

Docket: For access to the docket or to read background documents or comments, go to http://www.regulations.gov at any time or to Room W12-140 on the ground level of the West Building, 1200 New Jersey Avenue, SE., Washington, DC, between 9 a.m. and 5 p.m., Monday through Friday, except Federal holidays. If you wish to receive confirmation of receipt of your written comments, please include a self-addressed, stamped postcard with the following statement: “Comments on PHMSA-2011-0178.” The Docket Clerk will date stamp the postcard prior to returning it to you via the U.S. mail. Please note that due to delays in the delivery of U.S. mail to Federal offices in Washington, DC, we recommend that persons consider an alternative method (Internet, fax, or professional delivery service) of submitting comments to the docket and ensuring their timely receipt at DOT.

FOR FURTHER INFORMATION CONTACT: Angela Dow by telephone at 202-366-1246, by fax at 202-366-4566, or by mail at U.S. Department of Transportation, Pipeline and Hazardous Materials Safety Administration, 1200 New Jersey Avenue, SE., PHP-30, Washington, DC 20590-0001.

SUPPLEMENTARY INFORMATION: Section 1320.8(d), Title 5, Code of Federal Regulations, requires PHMSA to provide interested members of the public and affected agencies an opportunity to comment on information collection and recordkeeping requests. This notice identifies several information collection requests that PHMSA will be submitting to OMB for renewal. The following information is provided for each information collection: (1) Title of the information collection; (2) OMB control number; (3) Current expiration date; (4) Type of request; (5) Abstract of the information collection activity; (6) Description of affected public; (7) Estimate of total annual reporting and recordkeeping burden; and (8) Frequency of collection. PHMSA will request a three-year term of approval for each information collection activity. PHMSA requests comments on the following information collections:

Title: Requirements for Liquefied Natural Gas (LNG) Facilities.

OMB Control Number: 2137-0048.

Current Expiration Date: 1/31/2012.

Abstract: Operators of liquefied natural gas facilities are required under 49 CFR part 193 to maintain records, make reports, and provide information to PHMSA and State pipeline safety agencies concerning the operations of their facilities. The information aids Federal and state pipeline safety inspectors in conducting compliance inspections and investigating incidents.

Affected Public: Operators of Liquefied Natural Gas Facilities.

Annual Reporting and Recordkeeping Burden:

Total Annual Responses: 101.

Total Annual Burden Hours: 12,120.

Frequency of Collection: On Occasion.

Title: Record Keeping for Natural Gas Pipeline Operators.

OMB Control Number: 2137-0049.

Current Expiration Date: 1/31/2012.

Abstract: Operators of gas pipelines are required under 49 CFR part 192 to maintain records, make reports, and provide information to PHMSA and State pipeline safety agencies concerning the operations of their pipelines. The information aids Federal and state pipeline safety inspectors in conducting compliance inspections and investigating incidents.

Affected Public: Operators of Natural Gas Pipeline Systems.

Annual Reporting and Recordkeeping Burden:

Total Annual Responses: 2,300.

Total Annual Burden Hours: 940,454.

Frequency of collection: On occasion.

Title: Pipeline Safety: Excess Flow Valves—Customer Notification.

OMB Control Number: 2137-0593.

Current Expiration Date: 1/31/2012.

Abstract: Pipeline operators are required to provide notifications about excess flow valves to service line customers as described in § 192.383. Upon request, an operator must make documentation of compliance available to PHMSA or the appropriate state regulatory agency.

Affected Public: Pipeline Operators.

Annual Reporting and Recordkeeping Burden:

Total Annual Responses: 900,000.

Total Annual Burden Hours: 18,000.

Frequency of collection: On Occasion.

Title: Customer Owned Service Lines.

OMB Control Number: 2137-0594.

Current Expiration Date: 1/31/2012.

Abstract: Operators of gas service lines who do not maintain certain buried piping on behalf of their customers must provide notification about maintenance to those customers (§ 192.16). Upon request, an operator must make documentation of compliance available to PHMSA or the appropriate state regulatory agency.

Affected Public: Natural Gas Pipeline Operators.

Annual Reporting and Recordkeeping Burden:

Total Annual Responses: 550, 000.

Total Annual Burden Hours: 9,167.

Frequency of collection: On Occasion.

Title: Pipeline Safety: Qualification of Pipeline Safety, Training.

OMB Control Number: 2137-0600.

Current Expiration Date: 2/29/2012.

Abstract: Pipeline operators are required to have continuing programs for qualifying and training personnel performing safety-sensitive functions on pipelines. (49 CFR part 192, Subpart N and 49 CFR part 195, Subpart G). Operators must maintain records, make reports, and provide information to PHMSA and state pipeline safety agencies concerning these programs. The information aids Federal and state pipeline safety inspectors in conducting compliance inspections and investigating incidents.

Affected Public: Pipeline Operators.

Annual Reporting and Recordkeeping Burden:

Total Annual Responses: 22,300.

Total Annual Burden Hours: 466,667.

Frequency of collection: On Occasion.

Title: Pipeline Safety: Report of Abandoned Underwater Pipelines.

OMB Control Number: 2137-0601.

Current Expiration Date: 2/29/2012.

Abstract: Pipeline operators are required to report certain information about abandoned underwater pipelines to PHMSA (§ 195.59 and § 192.727). The information aids Federal and state pipeline safety inspectors in conducting compliance inspections and investigating incidents.

Affected Public: Operators of Underwater Pipelines.

Annual Reporting and Recordkeeping Burden:

Annual Responses: 10.

Annual Burden Hours: 60.

Frequency of collection: On Occasion.

Title: Pipeline Safety: Integrity Management in High Consequence Areas for Operators with more than 500 Miles of Hazardous Liquid Pipelines.

OMB Control Number: 2137-0604.

Current Expiration Date: 1/31/2012

Abstract: Hazardous liquid operators with pipelines in high consequence areas (i.e., commercially navigable waterways, high population areas, other populated areas, and unusually sensitive areas as defined in § 195.450) are subject to certain information collection requirements relative to the Integrity Management Program provisions of § 195.452.

Affected Public: Pipeline operators with more than 500 miles of hazardous liquid pipeline located in high consequence areas.

Annual Reporting and Recordkeeping Burden:

Annual Responses: 71.

Annual Burden Hours: 57,510.

Frequency of collection: On Occasion.

Title: Pipeline Safety: Integrity Management in High Consequence Areas for Operators with Less than 500 Miles of Hazardous Liquid Pipeline.

OMB Control Number: 2137-0605.

Current Expiration Date: 1/31/2012.

Abstract: Hazardous liquid operators with pipelines in high consequence areas (i.e., commercially navigable waterways, high population areas, other populated areas, and unusually sensitive areas as defined in § 195.450) are subject to certain information collection requirements relative to the Integrity Management Program provisions of § 195.452.

Affected Public: Pipeline operators with less than 500 miles of hazardous liquid pipeline located in high consequence areas.

Annual Reporting and Recordkeeping Burden:

Annual Responses: 132.

Annual Burden Hours: 267,960.

Frequency of collection: On Occasion.

Comments are invited on:

(a) The need for the proposed collection of information for the proper performance of the functions of the agency, including whether the information will have practical utility;

(b) The accuracy of the agency's estimate of the burden of the proposed collection of information, including the validity of the methodology and assumptions used;

(c) Ways to enhance the quality, utility, and clarity of the information to be collected; and

(d) Ways to minimize the burden of the collection of information on those who are to respond, including the use of appropriate automated, electronic, mechanical, or other technological collection techniques.

Issued in Washington, DC, on July 27, 2011.
Alan K. Mayberry,
Deputy Associate Administrator for Field Operations.

[FR Doc. 2011-19383 Filed 7-29-11; 8:45 am]

BILLING CODE 4910-60-P